DEPARTMENT OF THE INTERIOR

National Park Service

[NPS-WASO-NAGPRA-NPS0029875; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary object in consultation with the appropriate Federally-recognized Indian Tribes, and has determined that there is no cultural affiliation between the human remains and associated funerary object and any present-day Federally-recognized Indian Tribes. Representatives of any Federally-recognized Indian Tribe not identified in this notice that wish to request transfer of control of these human remains and associated funerary object should submit a written request to the TVA. If no additional requestors come forward, transfer of control of the human remains and associated funerary object to the Federally-recognized Indian Tribe stated in this notice may proceed.

DATES: Representatives of any Federally-recognized Indian Tribe not identified in this notice that wish to request transfer of control of these human remains and associated funerary object should submit a written request with information in support of the request to the TVA at the address in this notice by April 27, 2020.

ADDRESSES: Dr. Thomas O. Maher, Tennessee Valley Authority, 400 West Summit Hill Drive, WT11C, Knoxville, TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary object under the control of the Tennessee Valley Authority, Knoxville, TN. The human remains and associated funerary object were removed from archeological site 40HS12 in Humphreys County, TN.

This notice is published as part of the National Park Service's administrative responsibilities under NAGPRA, 25 U.S.C. 3003(d)(3) and 43 CFR 10.11(d). The determinations in this notice are the sole responsibility of the museum, institution, or Federal agency that has control of the Native American human remains and associated funerary object. The National Park Service is not responsible for the determinations in this notice.

Consultation

A detailed assessment of the human remains and associated funerary object was made by the TVA in consultation with representatives of the Cherokee Nation; Coushatta Tribe of Louisiana; Eastern Band of Cherokee Indians; The Chickasaw Nation; The Muscogee (Creek) Nation; The Osage Nation (previously listed as the Osage Tribe); The Seminole Nation of Oklahoma; Thlopthlocco Tribal Town; and the United Keetoowah Band of Cherokee Indians in Oklahoma (hereafter referred to as “The Consulted Tribes”).

History and Description of the Remains

40HS12, the Patterson site, was excavated as part of TVA's Kentucky reservoir project by the University of Tennessee, using labor and funds provided by the Works Progress Administration. Details regarding these excavations have never been published. Field reports regarding this site can be found at the McClung Museum of Natural History and Culture (MM) and the TVA. The human remains and associated funerary object listed in this notice have been in the physical custody of the University of Tennessee since they were excavated. This Mississippian mound complex was divided into multiple special units by the excavators (Charles Nash and J. Joe Finkelstein). Units 71 and 74 were burial mounds located on land purchased by TVA on May 13, 1941. The pyramidal mound (unit 70), village (unit 75), and small mounds (units 72 and 73) were not on land purchased by the TVA. According to Nash, excavations on unit 70 were “by private permission of the owners thru contract with the University of Tennessee.” Consequently, only items from units 71 and 74 are under the control of the TVA.

The first documented excavation at this site was conducted by Clarence B. Moore during his 1914 tour of the Tennessee River Valley. Moore, who referred to this site as “Dixie Landing,” dug numerous pits in the large pyramidal mound and adjacent smaller mounds. Moore does not indicate whether he recovered any funerary objects.

The field report for the mound in unit 74 lacks detail. It is described as a small, ovoid mound measuring 50 x 25 feet at its base. Finkelstein reports that, “The mound, some three feet in height at present, was built upon an old land surface. It contained the remains of four burial[s], all in the south half of the mound; the north half was pretty thoroughly disturbed by a large looter's pit.” At present, no human remains from unit 74 have been found at the MM.

Unit 71 is a mound measuring 170 x 60 x ca.10 feet. It was heavily impacted by Moore and more recent looter pits prior to the Kentucky Reservation project. Nash indicates that the mound was made up of two phases of construction. Phase B, the lowest level of mound, “was composed of a very dry brittle white clay . . .” In phase B Nash identified “four flesh burials, 1 skull, 2 open fire cremations and 1 pit cremation . . .” Phase A, the top-most layer, was made up of sandy humic clay. Within phase A Nash identified six in-flesh burials, one pit, five skulls, three stone box burials, one stone cist cremation, two clay basin cremations, and three open fire cremations. Evidence of stone box graves was only found in this upper phase of mound construction. From January 10 to April 3, 1942, human remains representing, at minimum, 25 individuals were removed from unit 71. Adults, one adolescent and one child are distinguished. No known individuals were identified. The one associated funerary object is a flint blade.

Determinations Made by the Tennessee Valley Authority

Officials of the Tennessee Valley Authority have determined that:

• Pursuant to 25 U.S.C. 3001(9), the human remains described in this notice are Native American based on their presence in a prehistoric archeological site and osteological analysis.

• Pursuant to 25 U.S.C. 3001(9), the human remains described in this notice represent the physical remains of 25 individuals of Native American ancestry.

• Pursuant to 25 U.S.C. 3001(3)(A), the one object described in this notice is reasonably believed to have been placed with or near individual human remains at the time of death or later as part of the death rite or ceremony.

• Pursuant to 25 U.S.C. 3001(2), a relationship of shared group identity cannot be reasonably traced between the Native American human remains and the associated funerary object and any present-day Indian Tribe.

• According to final judgements of the Indian Claims Commission or the U.S. Court of Federal Claims, the land from which the cultural items were removed is the aboriginal land of the Cherokee Nation; Eastern Band of Cherokee Indians; and the United Keetoowah Band of Cherokee Indians in Oklahoma.

• The Treaty of September 20, 1816, indicates that the land from which the cultural items were removed is the aboriginal land of The Chickasaw Nation.

• Pursuant to 43 CFR 10.11(c)(1)(ii), the disposition of the human remains may be to the Cherokee Nation; Eastern Band of Cherokee Indians; The Chickasaw Nation; and the United Keetoowah Band of Cherokee Indians in Oklahoma.

• The Cherokee Nation; Eastern Band of Cherokee Indians; and the United Keetoowah Band of Cherokee Indians in Oklahoma have declined to accept transfer of control of the human remains. The Tennessee Valley Authority has agreed to transfer control of the human remains to The Chickasaw Nation.

• Pursuant to 43 CFR 10.11(c)(4), the Tennessee Valley Authority has agreed to transfer control of the associated funerary object to The Chickasaw Nation.

Additional Requestors and Disposition

Representatives of any Federally-recognized Indian Tribe not identified in this notice that wish to request transfer of control of these human remains and associated funerary objects should submit a written request with information in support of the request to Dr. Thomas O. Maher, Tennessee Valley Authority, 400 West Summit Hill Drive, WT11C, Knoxville, TN 37902-1401, telephone (865) 632-7458, email tomaher@tva.gov, by April 27, 2020. After that date, if no additional requestors have come forward, transfer of control of the human remains and associated funerary object to The Chickasaw Nation may proceed.

The Tennessee Valley Authority is responsible for notifying The Consulted Tribes that this notice has been published.

Dated: February 19, 2020.
Melanie O'Brien,
Manager, National NAGPRA Program.

[FR Doc. 2020-06431 Filed 3-26-20; 8:45 am]

BILLING CODE 4312-52-P